GENERAL SERVICES ADMINISTRATION

[OMB Control No. 3090-0112]

Submission for OMB Review; Comment Request Entitled State Agency Monthly Donation Report of Surplus Property

AGENCY: Federal Supply Service, GSA.

ACTION: Notice of request for an extension to an existing OMB clearance (3090-0112).

SUMMARY: Under the provisions of the Paperwork Reduction Act of 1995 (44 U.S.C. Chapter 35), the Office of Acquisition Policy has submitted to the Office of Management and Budget (OMB) a request to review and approve an extension of a currently approved information collection requirement concerning GSA Form 3040, State Agency Monthly Donation Report of Surplus Personnel Property. A request for public comments was published at 67 FR 331, January 3, 2002. No comments were received.

Public comments are particularly invited on: Whether this collection of information is necessary for the proper performance of functions of the GSA, to conduct a report assessing the distribution of surplus property, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: April 24, 2002.

ADDRESSES: Submit comments regarding this burden estimate or any other aspect of this collection of information, including suggestions for reducing this burden to Ms. Jeanette Thornton, GSA Desk Officer, OMB, Room 10236, NEOB, Washington, DC 20503, and a copy to Ms. Stephanie Morris, General Services Administration (MVP), Room 4035, 1800 F Street, NW., Washington, DC 20405.

FOR FURTHER INFORMATION CONTACT: Denise Thomas, Federal Supply Services (703) 308-0742.

SUPPLEMENTARY INFORMATION:

A. Purpose

The General Services Administration is requesting the Office of Management and Budget (OMB) to renew information collection, 3090-0112, concerning GSA Form 3040, State Agency Monthly Donation Report of Surplus Personal Property. This report complies with Public Law 94-519, which requires annual reports of donations of personal property to public agencies for use in carrying out such purposes as conservation, economic development, education, parks and recreation, public health, and public safety.

B. Annual Reporting Burden

Respondents: 55.

Annual responses: 220.

Burden hours: 330.

Copy of Proposal

A copy of this proposal may be obtained from the General Services Administration, Acquisition Policy Division (MVP), Room 4035, 1800 F Street NW., Washington, DC 20405, or by telephoning (202) 501-4744, or by faxing your request to (202) 501-4067. Please cite OMB Control No. 3090-0112, State Agency Monthly Donation Report of Surplus Property, in all correspondence.

Dated: March 19, 2002.
Michael W. Carleton,
Chief Information Officer (I).

[FR Doc. 02-7136 Filed 3-22-02; 8:45 am]

BILLING CODE 6820-61-M